DEPARTMENT OF LABOR

Employment and Training Administration

[NAFTA-03891]

Nortel Networks, Xors, Inc., Northern Telephone, Alteon Networks, Santa Clara, CA; Amended Certification Regarding Eligibility To Apply for NAFTA Transitional Adjustment Assistance

In accordance with Section 250(a), Subchapter 2, Title II, of the Trade Act of 1974, as amended (19 U.S.C. 2273), the Department of Labor issued a Certification of Eligibility to Apply for NAFTA Transitional Adjustment Assistance on May 30, 2000, applicable to workers of Nortel Networks, Santa Clara, California. The notice was published in the Federal Register on June 8, 2000 (65 FR 36470).

At the request of a State agency, the Department reviewed the certification for workers of the subject firm. The workers were engaged in the production of telecommunications equipment, primarily printed circuit assemblies and PBX telephone switches.

New information provided by the State shows that some workers separated from employment at the Santa Clara, California location of Nortel Networks had their wages reported under three separate unemployment insurance (UI) tax accounts for Xros, Inc. and Northern Telephone, Santa Clara, California and Alteon Networks, Santa Clara, California and San Jose, California.

Accordingly, the Department is amending the certification to properly reflect this matter.

The intent of the Department's certification is to include all workers of Nortel Networks who were adversely affected by a shift of production of telecommunication equipment to Canada.

The amended notice applicable to NAFTA—03891 is hereby issued as follows:

All workers of Nortel Networks, Santa Clara, California; and workers of Xros, Inc., Northern Telephone, Alteon Networks, producing telecommunications equipment, primarily printed circuit assemblies and PBX telephone switches at Nortel Networks, Santa Clara, California, who became totally or partially separated from employment on or after April 27, 1999, through May 30, 2002, are eligible to apply for NAFTA-TAA under Section 250 of the Trade Act of 1974;

Signed at Washington, DC this 26th day of November, 2002.
Linda G. Poole,
Certifying Officer, Division of Trade Adjustment Assistance.

[FR Doc. 02-31059 Filed 12-6-02; 8:45 am]

BILLING CODE 4510-30-P